INTERNATIONAL TRADE COMMISSION

[Investigation Nos. 701-TA-699-702 and 731-TA-1659-1660 (Final)]

Frozen Warmwater Shrimp From Ecuador, India, Indonesia, and Vietnam; Revised Schedule for the Subject Investigations

AGENCY: United States International Trade Commission.

ACTION: Notice.

DATES: September 27, 2024.

FOR FURTHER INFORMATION CONTACT: Calvin Chang (202-205-3062), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On August 8, 2024, the Commission established a revised schedule for the conduct of the final phase of the subject investigations (89 FR 66138, August 14, 2024) to conform with the U.S. Department of Commerce (“Commerce”) issuing a memorandum tolling certain statutory and regulatory deadlines by a total of seven days. The Commission is further revising its schedule regarding the deadlines for filing prehearing briefs and for requests to appear at the hearing. All other aspects of the schedule remain unchanged.

The Commission's revised dates in the schedule are as follows. The deadline for filing prehearing briefs is 5:15 p.m. on October 15, 2024; if a brief contains business proprietary information, a nonbusiness proprietary version is due the following business day. Requests to appear at the hearing should be filed in writing with the Secretary to the Commission on or before October 16, 2024. Parties must submit any request to present a portion of their hearing testimony in camera no later than seven business days prior to the date of the hearing.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: September 27, 2024.
Lisa Barton,
Secretary to the Commission.

[FR Doc. 2024-22732 Filed 10-2-24; 8:45 am]

BILLING CODE 7020-02-P